DEPARTMENT OF HOUSING AND URBAN DEVELOPMENT

[Docket No. FR-5173-N-10]

Affirmatively Furthering Fair Housing Local Government Assessment Tool—Information Collection Renewal: Solicitation of Comment—60-Day Notice Under Paperwork Reduction Act of 1995

AGENCY: Office of the Assistance Secretary for Fair Housing and Equal Opportunity, HUD.

ACTION: Notice.

SUMMARY: On December 31, 2015, HUD announced the availability of the assessment tool (Local Government Assessment Tool) developed by HUD for use by local governments that receive Community Development Block Grants (CDBG), HOME Investment Partnerships Program (HOME), Emergency Solutions Grants (ESG), or Housing Opportunities for Persons with AIDS (HOPWA) formula funding from HUD when conducting and submitting their own Assessment of Fair Housing (AFH). The Local Government Assessment Tool is also available for use for AFHs conducted by joint and regional collaborations between: (1) Such local governments; (2) one or more such local governments with one or more public housing agency (PHA) partners; and (3) other collaborations in which such a local government is designated as the lead for the collaboration.

The Local Government Assessment Tool was approved by HUD's Office of Management and Budget under the Paperwork Reduction Act (PRA) for a period of one year. This notice, which solicits public comment for a period of 60 days, begins the process to renew the approval of the Local Government Assessment Tool. The PRA requires two public comment periods—a public comment period of 60 days and a second comment period of 30 days. After consideration of the public comments submitted in response to this notice, HUD will solicit a second round of public comments for a period of 30 days.

HUD notes that, over the next several months, it will be soliciting public comment pursuant to the PRA on assessment tools to be used by different categories of program participants. This Notice solicits public comment on the Local Government Assessment Tool. In a notice issued on March 11, 2016, published at 81 FR 12921, HUD announced that it is seeking public comments on the proposed assessment tool for use by States and Insular Areas (State and Insular Area Assessment Tool). In the near future, HUD will issue the proposed assessment tool for Public Housing Agencies (PHA Assessment Tool).

DATES: Comment Due Date: May 23, 2016.

ADDRESSES: Interested persons are invited to submit comments regarding this notice to the Regulations Division, Office of General Counsel, Department of Housing and Urban Development, 451 7th Street SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the notice.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals who are deaf or hard of hearing and individuals with speech impairments may access this number via TTY by calling the Federal Relay Service at 800-877-8339. Copies of all comments submitted are available for inspection and downloading at www.regulations.gov.

FOR FURTHER INFORMATION CONTACT: George D. Williams, Sr., Deputy Assistant Secretary for Policy, Legislative Initiatives and Outreach, Office of Fair Housing and Equal Opportunity, Department of Housing and Urban Development, 451 7th Street SW., Room 5246, Washington, DC 20410; telephone number 866-234-2689 (toll-free). Individuals with hearing or speech impediments may access this number via TTY by calling the toll-free Federal Relay Service during working hours at 1-800-877-8339.

SUPPLEMENTARY INFORMATION:

I. Background

On December 31, 2015, at 80 FR 81840, by notice published in the Federal Register, HUD announced the availability for use of the Assessment Tool. This announcement was preceded by the two Federal Register notices for public comment required by the PRA. The 60-day notice was published on September 26, 2015, at 79 FR 57949, and the 30-day notice published on July 16, 2015, at 80 FR 42108, the same day that HUD published its Affirmatively Furthering Final Rule, at 80 FR 42272. The Assessment Tool, HUD's final rule on Affirmatively Furthering Fair Housing, and HUD's AFFH Rule Guidebook accompanying the Local Government Assessment Tool can all be found at https://www.hudexchange.info/programs/affh/.

II. Overview of Information Collection

Title of Proposal: Assessment of FairHousing Tool.

OMB Control Number, if applicable: 2529-0054.

Description of the need for the information and proposed use: The purpose of HUD's Affirmatively Furthering Fair Housing (AFFH) final rule is to provide HUD program participants with a more effective approach to fair housing planning so that they are better able to meet their statutory duty to affirmatively further fair housing. In this regard, the final rule requires HUD program participants to conduct and submit an AFH. In the AFH, program participants must identify and evaluate fair housing issues, and factors significantly contributing to fair housing issues (contributing factors) in the program participant's jurisdiction and region.

The Assessment Tool is the standardized document designed to aid program participants in conducting the required assessment of fair housing issues and contributing factors and priority and goal setting. The Assessment Tool asks a series of questions that program participants must respond to in carrying out an assessment of fair housing issues and contributing factors, and setting meaningful fair housing goals and priorities to overcome them.

Agency form numbers, if applicable: Not applicable.

Members of affected public: As noted earlier in this document, local governments that receive CDBG, HOME, ESG, or HOPWA formula funding from HUD when conducting and submitting their own AFH, and any PHAs that choose to partner with such local governments.

Estimation of the total numbers of hours needed to prepare the information collection including number of respondents, frequency of response, and hours of response:

Please see table below.

Reporting and Recordkeeping Burden
| Number of respondents * | Number of responses per respondent | Frequency of response ** | Estimated average time for requirement (in hours) *** | Estimated burden (in hours)
CFR Section Reference: § 5.154(d) (Assessment of Fair Housing) | 2,508 total entities (1,194 Entitlement Jurisdictions and approximately 1,314 PHAs) * | 1 | Once every five years (or three years in the case of 3-Year Consolidated Plans) ** |  |
Entitlement Jurisdiction | 1,194 |  |  | *** 240 | 286,560
PHAs | 1,314 * |  |  | 120 | 157,680
Total Burden | 2,508 | * 1,194 |  |  | 444,240
* This template is primarily designed for local government program participants, of which there are approximately 1,194, and PHAs seeking to join with local governments on a jointly submitted AFH. There are 3,942 PHAs, and HUD estimates that approximately ⅓ of PHAs may seek to join with a local government and submit a joint AFH. The Total Number of responses is listed as 1,194 based on the number of entitlement jurisdictions that will submit AFHs using this Assessment Tool. The total hours and burden are based on the total estimated number of both types of program participants and the “estimated average time” listed for type of program participant.
** The timing of submission depends upon whether a local government program participant submits its consolidated plan every 3 years or every 5 years.
*** The estimate of 240 hours is an average across all local government program participants, with some having either higher or lower actual burden.
**** PHAs participating in joint submissions using the Assessment Tool under this notice are assumed to have some fixed costs, including staff training, conducting community participation costs, but reduced costs for conducting the analysis in the assessment itself.

III. Solicitation of Specific Comment on the Local Government Assessment Tool

HUD specifically requests comment on the following subjects.

As HUD has stated, it intends to make improvements to the online AFFH Data and Mapping Tool (AFFH-T). HUD is seeking feedback on the items listed below that are under consideration, as well as any other requests for data or functionality improvements in the AFFH-T. The specific items under consideration are intended to modify and improve existing data items or to better facilitate program participants in completing the Assessment Tool. HUD also intends to provide additional instructions to clarify that additional data items may be provided in the online available data that do not necessarily require the program participant to respond to or include in their final submission as an attached map or table, but are provided for the program participants benefit in conducting additional levels of analyses. The public and, in particular affected HUD program participants are invited to comment on the following specific questions. For each of these questions, in addition to answering the question, HUD asks commenters to explain why the issue or issues posed in each question either would or would not be helpful from a fair housing perspective to have this additional level of detail presented in the question.

1. Should R/ECAPs be amended to exclude college students from the calculation of poverty rate?

2. Should HUD provide additional data on homeownership and rental housing, including maps and tables (e.g. data on percent of owner and renter occupied housing by area, maps showing patterns of home ownership and renter occupied housing together with demographics of race/ethnicity, and homeownership/rental rates by protected class group)?

3. Are there changes or improvements that can be made to the Opportunity Index measures? For example, should HUD include additional national data related to schools and education? Should HUD change the variables included in the Labor Market Engagement Index? Are there changes to the transportation indices (currently Transit Trips and Low Transportation Cots) that can be made to better inform a fair housing analysis of transportation access and whether transportation provides access to areas of opportunity? Should HUD adjust the Environmental Health Index with new variables and/or a revised formula?

5. Should HUD add Home Mortgage Disclosure Act (HMDA) data to inform a fair housing analysis of lending practices and trends? Which types of HMDA data would be most useful (e.g., loan origination data, data on conventional loans compared to FHA loans, etc.)?

6. Should HUD distinguish between 9 percent and 4 percent tax credits in the Low-Income Housing Tax Credit (LIHTC) data being provided, including in maps of development locations?

7. Should HUD make any other changes to the Local Government Assessment Tool to facilitate joint or regional collaboration or facilitate a meaningful fair housing analysis and priority and goal setting?

IV. Solicitation of Comment Require by the Paperwork Reduction Act

In accordance with 5 CFR 1320.8(d)(1), HUD is specifically soliciting comment from members of the public and affected program participants on the Assessment Tool on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages not only program participants but interested persons to submit comments regarding the information collection requirements in this proposal. Comments must be received by May 23, 2016 to www.regulations.gov as provided under the ADDRESSES section of this notice. Comments must refer to the proposal by name and docket number (FR-5173-N-10).

HUD encourages interested parties to submit comment in response to these questions.

Dated: March 17, 2016.
George D. Williams, Sr.,
Deputy Assistant Secretary for Policy, Legislative Initiatives, and Outreach.

[FR Doc. 2016-06600 Filed 3-22-16; 8:45 am]

BILLING CODE 4210-67-P